DEPARTMENT OF COMMERCE

International Trade Administration

Antidumping Proceedings--Treatment of Section 201 Duties and Countervailing Duties; Extension of Time for Rebuttal Comments

AGENCY: Import Administration, International Trade Administration, Department of Commerce.

ACTION: Notice of extension of time for rebuttal comments.

SUMMARY: On September 9, 2003, the Department of Commerce published a notice requesting comments on the appropriateness of deducting section 201 duties and countervailing duties from gross unit price in order to determine the applicable export price or constructed export price used in antidumping duty calculations. Comments were received by October 9, 2003. The Department is now extending the time for rebuttal comments to November 7, 2003.

DATE: To be assured consideration, rebuttal comments must be received no later than November 7, 2003.

ADDRESSES: Submit comments to James J. Jochum, Assistant Secretary for Import Administration, U.S. Department of Commerce, Central Records Unit, Room 1870, Pennsylvania Avenue and 14th Street, NW, Washington, DC 20230; Attention: Section 201 Duties.

FOR FURTHER INFORMATION CONTACT: Becky Erkul, Office of Policy, Import Administration, International Trade Administration, U.S. Department of Commerce, at (202) 482-1277.

Background

On September 9, 2003, the Department of Commerce published a notice requesting comments on the appropriateness of deducting section 201 duties and countervailing duties from gross unit price in order to determine the applicable export price or constructed export price used in antidumping duty calculations. See, Antidumping Proceedings: Treatment of Section 201 Duties and Countervailing Duties, 68 FR 53104 (September 9, 2003). Comments were received by October 9, 2003. Due to the large number of comments received, the Department is extending the time for rebuttal comments to November 7, 2003.

Comments--Deadline, Format, and Number of Copies

Parties wishing to submit rebuttal comments should file a signed original and six copies of each set of rebuttal comments. All comments will be available for public inspection and photocopying in the Import Administration's Central Records Unit, Room B-099, between the hours of 8:30 a.m. and 5 p.m. on business days. Each person submitting a rebuttal comment should include the commenter's name and address, and give reasons for any recommendations. In order to ensure timely and complete distribution of comments, the Department recommends the submission of rebuttal comments in electronic form to accompany the required paper copies. Comments filed in electronic form should be submitted on a DOS formatted 3.5” diskette, Iomega Zip disk, or Compact Disc (CD-R or CD-RW).

Comments received in electronic form will be made available to the public in Portable Document Format (PDF) on the Internet at the IA Web site at the following address: http://ia.ita.doc.gov/.

Any questions concerning file formatting, document conversion, access on the Internet, or other electronic filing issues should be addressed to Andrew Lee Beller, Import Administration Webmaster, at (202) 482-0866, email address webmaster_support@ita.doc.gov.

Hearing

After reviewing all comments and rebuttal comments, the Department will determine if a public hearing is warranted, and, if so, will announce a place and time for that hearing.

Dated: October 14, 2003.
James J. Jochum,
Assistant Secretary for Import Administration.

[FR Doc. 03-26536 Filed 10-20-03; 8:45 am]

BILLING CODE 3510-DS-S